FEDERAL RESERVE SYSTEM

Formations of, Acquisitions by, and Mergers of Bank Holding Companies

The companies listed in this notice have applied to the Board for approval, pursuant to the Bank Holding Company Act of 1956 (12 U.S.C. 1841 et seq.) (BHC Act), Regulation Y (12 CFR Part 225), and all other applicable statutes and regulations to become a bank holding company and/or to acquire the assets or the ownership of, control of, or the power to vote shares of a bank or bank holding company and all of the banks and nonbanking companies owned by the bank holding company, including the companies listed below.

The applications listed below, as well as other related filings required by the Board, are available for immediate inspection at the Federal Reserve Bank indicated. The application also will be available for inspection at the offices of the Board of Governors. Interested persons may express their views in writing on the standards enumerated in the BHC Act (12 U.S.C. 1842(c)). If the proposal also involves the acquisition of a nonbanking company, the review also includes whether the acquisition of the nonbanking company complies with the standards in section 4 of the BHC Act (12 U.S.C. 1843). Unless otherwise noted, nonbanking activities will be conducted throughout the United States. Additional information on all bank holding companies may be obtained from the National Information Center website at www.ffiec.gov/nic/.

Unless otherwise noted, comments regarding each of these applications must be received at the Reserve Bank indicated or the offices of the Board of Governors not later than October 20, 2000.

A. Federal Reserve Bank of Richmond (A. Linwood Gill, III, Vice President) 701 East Byrd Street, Richmond, Virginia 23261-4528:

1. Shore Bancshares, Inc., Centreville, Maryland; to merge with Talbot Bancshares, Inc., Easton, Maryland, and thereby indirectly acquire The Talbot Bank of Easton, Maryland, Easton, Maryland.

B. Federal Reserve Bank of St. Louis (Randall C. Sumner, Vice President) 411 Locust Street, St. Louis, Missouri 63166-2034:

1. First Banks, Inc., St. Louis, Missouri, and its subsidiary, First Banks America, Inc., St. Louis, Missouri; to acquire 100 percent of the voting shares of Millennium Bank, San Francisco, California.

2. Eureka Springs Bancshares, Inc., Eureka Springs, Arkansas; to acquire 100 percent of the voting shares of Bank of Eureka Springs, Eureka Springs, Arkansas.

In connection with this application, JFC, Inc., Eureka Springs, Arkansas, and The John F. Cross Family Limited Partnership II, Eureka Springs, Arkansas, have applied to become bank holding companies by acquiring voting shares of Eureka Springs Bancshares, Inc., Eureka Springs, Arkansas.

C. Federal Reserve Bank of Kansas City (D. Michael Manies, Assistant Vice President) 925 Grand Avenue, Kansas City, Missouri 64198-0001:

1. Grace Investment Company, Inc., Alva, Oklahoma; to become a bank holding company by acquiring 93.87 percent of the voting shares, for a total of 100 percent of the voting shares of The First National Bank in Okeene, Okeene, Oklahoma.

D. Federal Reserve Bank of Dallas (W. Arthur Tribble, Vice President) 2200 North Pearl Street, Dallas, Texas 75201-2272:

1. Sterling City Bancshares, Inc., Sterling City, Texas, and Sterling City Delaware Financial Corporation, Dover, Delaware; to become bank holding companies by acquiring 100 percent of the voting shares of The First National Bank of Sterling City, Sterling City, Texas.

E. Federal Reserve Bank of San Francisco (Maria Villanueva, Consumer Regulation Group) 101 Market Street, San Francisco, California 94105-1579:

1. First Community Bancorp; Castle Creek Capital Partners Fund I, LP; Castle Creek Capital Partners Fund IIa, LP; Castle Creek Capital Partners Fund IIb, LP; Castle Creek Capital LLC; Eggemeyer Advisory Corp.; and WJR Corp., all of Rancho Santa Fe, California; to acquire 100 percent of the voting shares of, and thereby merge with Professional Bancorp, Inc., Santa Monica, California, and thereby indirectly acquire voting shares of First Professional Bank, N.A., Santa Monica, California.

Board of Governors of the Federal Reserve System, September 21, 2000.
Robert deV. Frierson,
Associate Secretary of the Board.

[FR Doc. 00-24690 Filed 9-25-00; 8:45 am]

BILLING CODE 6210-01-P